DEPARTMENT OF COMMERCE

International Trade Administration

[A-588-851, A-485-805]

Carbon and Alloy Seamless Standard, Line and Pressure Pipe (Under 4½ Inches) From Japan and Romania: Final Results of the Expedited Fourth Sunset Reviews of the Antidumping Duty Orders

AGENCY: Enforcement and Compliance, International Trade Administration, Department of Commerce.

SUMMARY: As a result of these expedited sunset reviews, the U.S. Department of Commerce (Commerce) finds that revocation of the antidumping duty orders on carbon and alloy seamless standard, line and pressure pipe (under 4½ inches) (small diameter pipe) from Japan and Romania would likely lead to the continuation or recurrence of dumping at the levels indicated in the “Final Results of Review” section of this notice.

DATES: Applicable January 23, 2023.

FOR FURTHER INFORMATION CONTACT: Katherine Johnson, AD/CVD Operations, Office VIII, Enforcement and Compliance, International Trade Administration, U.S. Department of Commerce, 1401 Constitution Avenue NW, Washington, DC 20230; telephone: (202) 482-4929.

SUPPLEMENTARY INFORMATION:

Background

On October 3, 2022, Commerce published the notice of initiation of the fourth sunset reviews of the antidumping duty orders ¹ on small diameter pipe from Japan and Romania pursuant to section 751(c)(2) of the Tariff Act of 1930, as amended (the Act).² These sunset reviews cover the five-year period from 2017 to 2021. On October 17, 2022, Commerce received notices of intent to participate from Vallourec Star, L.P. and United States Steel Corporation (collectively, the domestic interested parties) within the deadline specified in 19 CFR 351.218(d)(1)(i).³ These companies claimed interested party status under section 771(9)(C) of the Act as domestic producers of small diameter pipe in the United States.

¹ See Notice of Antidumping Duty Orders: Certain Large Diameter Carbon and Alloy Seamless Standard, Line and Pressure Pipe from Japan; and Certain Small Diameter Carbon and Alloy Seamless Standard, Line and Pressure Pipe from Japan and the Republic of South Africa, 65 FR 39360 (June 26, 2000); and Notice of Amended Final Determination of Sales at Less Than Fair Value and Antidumping Duty Order: Certain Small Diameter Carbon and Alloy Seamless Standard, Line and Pressure Pipe from Romania, 65 FR 48963 (August 10, 2000) (collectively, Orders).

² See Initiation of Five-Year (Sunset) Reviews, 87 FR 59779 (October 3, 2022).

³ See Domestic Interested Party's Letters, “Notice of Intent to Participate in the Fourth Five-Year Review of the Antidumping Duty Order on Carbon and Alloy Seamless Standard, Line and Pressure Pipe (Under 4½ Inches) from Japan,” dated October 17, 2022; and “Notice of Intent to Participate in the Fourth Five-Year Review of the Antidumping Duty Order on Carbon and Alloy Seamless Standard, Line and Pressure Pipe (Under 4½ Inches) from Romania,” dated October 17, 2022.

Commerce received complete substantive responses from the domestic interested parties on November 2, 2022, within the 30-day deadline specified in 19 CFR 351.218(d)(3).⁴ No respondent interested party submitted a substantive response. As a result, pursuant to section 751(c)(3)(B) of the Act and 19 CFR 351.218(e)(1)(ii)(C)(2), Commerce is conducted expedited (120-day) sunset reviews of the Orders. On October 27, 2022, Commerce notified the U.S. International Trade Commission that it did not receive an adequate substantive response from respondent interested parties in these sunset reviews.⁵

⁴ See Domestic Interested Party's Letters, “Carbon and Alloy Seamless Standard, Line and Pressure Pipe (Under 4½ Inches) from Japan, Fourth Five-Year Review: Substantive Response to Notice of Initiation,” dated November 2, 2022; and “Carbon and Alloy Seamless Standard, Line and Pressure Pipe (Under 4½ Inches) from Romania, Fourth Five-Year Review: Substantive Response to Notice of Initiation,” dated November 2, 2022.

⁵ See Commerce's Letter, “Sunset Reviews for October 2022,” dated October 27, 2022.

Scope of the Orders

The merchandise subject to the Orders is small diameter seamless pipe. The product is currently classified under the Harmonized Tariff Schedule of the United States (HTSUS) subheadings 7304.10.10.20, 7304.10.50.20, 7304.19.10.20, 7304.19.50.20, 7304.31.30.00, 7304.31.60.50, 7304.39.00.16, 7304.39.00.20, 7304.39.00.24, 7304.39.00.28, 7304.39.00.32, 7304.51.50.05, 7304.51.50.60, 7304.59.60.00, 7304.59.80.10, 7304.59.80.15, 7304.59.80.20, and 7304.59.80.25. The HTSUS subheadings are provided for convenience and customs purposes only; the written product description of the scope of the Orders is dispositive.⁶

⁶ For a full description of the scope of the Orders, see Memorandum, “Issues and Decision Memorandum for the Final Results of the Expedited Fourth Sunset Reviews of the Antidumping Duty Orders on Carbon and Alloy Seamless Standard, Line and Pressure Pipe (Under 4½/Inches) from Japan and Romania,” dated concurrently with, and hereby adopted by, this notice (Issues and Decision Memorandum).

Analysis of Comments Received

All issues raised in these sunset reviews are addressed in the accompanying Issues and Decision Memorandum.⁷ A list of topics discussed in the Issues and Decision Memorandum is included as the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁷ See Issues and Decision Memorandum.

Final Results of Review

Pursuant to sections 751(c)(1) and 752(c)(1) and (3) of the Act, Commerce determines that revocation of the Orders would be likely to lead to the continuation or recurrence of dumping, and that the magnitude of the margins likely to prevail is up to 106.07 percent (Japan) and 14.25 percent (Romania).

Administrative Protective Order

This notice also serves as the only reminder to parties subject to administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing these final results and notice in accordance with sections 751(c), 752(c), and 777(i)(1) of the Act and 19 CFR 351.218(e)(1)(ii)(C)(2) and 19 CFR 351.221(c)(5)(ii).

Dated: January 17, 2023.
Abdelali Elouaradia,
Deputy Assistant Secretary for Enforcement and Compliance.

Appendix—List of Topics Discussed in the Issues and Decision Memorandum

I. Summary

II. Background

III. Scope of the Orders

IV. History of the Orders

V. Legal Framework

VI. Discussion of the Issues

1. Likelihood of Continuation or Recurrence of Dumping

2. Magnitude of the Dumping Margins Likely To Prevail

VII. Final Results of Sunset Reviews

VIII. Recommendation

[FR Doc. 2023-01212 Filed 1-20-23; 8:45 am]

BILLING CODE 3510-DS-P